NEIGHBORHOOD REINVESTMENT CORPORATION

Sunshine Act Meetings

TIME AND DATE: 1:30 p.m., Monday, April 14, 2025.

PLACE: via ZOOM.

STATUS: Parts of this meeting will be open to the public. The rest of the meeting will be closed to the public.

MATTERS TO BE CONSIDERED: Special Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: FY25 All-Sources Budget

IV. Discussion Session: FY25 All-Sources Budget

V. Action Item: Approval of FY25 All-Sources Budget

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2025-06163 Filed 4-7-25; 4:15 pm]

BILLING CODE 7570-01-P